ENVIRONMENTAL PROTECTION AGENCY

[FRL-7860-6 ]

Science Advisory Board (SAB) Staff Office; Notification of Upcoming Meetings of the Science Advisory Board Metals Risk Assessment Framework Review Panel

AGENCY: Environmental Protection Agency (EPA).

ACTION: Notice.

SUMMARY: The EPA's Science Advisory Board (SAB) Staff Office is announcing a public teleconference and meeting of the SAB Metals Risk Assessment Framework Review Panel (Panel).

DATES: January 26, 2005: The Panel will hold a public teleconference on January 26, 2005, from 11 a.m. to 2 p.m. (EST).

February 1-3, 2005: The Panel will hold a public face-to-face meeting starting February 1, 2005, at 9 a.m., adjourning at approximately 3 p.m. (EST) on February 3, 2005.

ADDRESSES: The public teleconference will take place via telephone only. The public face-to-face meeting of the Panel will be held at the Science Advisory Board Conference Center located at 1025 F Street, NW., Room 3705, Washington, DC 20004.

FOR FURTHER INFORMATION CONTACT: Any member of the public wishing further information regarding the public teleconference and meeting may contact Dr. Thomas Armitage, Designated Federal Officer (DFO), U.S. EPA Science Advisory Board by telephone/voice mail at (202) 343-9995, fax at (202) 233-0643, by e-mail at armitage.thomas@epa.gov, or by mail at U.S. EPA SAB (1400F), 1200 Pennsylvania Ave., NW., Washington, DC 20460. General information about the SAB and the meeting location may be found on the SAB Web site, http://www.epa.sab.

For technical inquiries concerning EPA's Framework for Inorganic Metals Risk Assessment, please contact Dr. William Wood, U.S. EPA Office of Research and Development, Risk Assessment Forum by telephone/voice mail at (202) 564-3361, fax at (202) 564-0062, by e-mail at forum.risk@epa.gov or by mail at Office of Research and Development, Risk Assessment Forum (8601-D), 1200 Pennsylvania Ave., NW., Washington, DC 20460.

SUPPLEMENTARY INFORMATION: Summary: Pursuant to the Federal Advisory Committee Act, Public Law 92-463, Notice is hereby given that the Panel will hold a public teleconference and meeting to conduct a peer review of EPA's Framework for Inorganic Metals Risk Assessment. The dates and times for the teleconference and meeting are provided above.

Background: Background on the meeting described in this notice was provided in a Federal Register Notice published on July 29, 2004 (69 FR 45314-45315). EPA has been undertaking an effort to develop cross-Agency guidance for assessing the human health and ecological hazards and risks of metals and metal compounds. EPA developed the draft guidance document entitled, “Framework for Inorganic Metals Risk Assessment,” to supplement previous EPA guidance for use in site-specific risk assessments, criteria derivation, and other similar Agency activities related to metals. The guidance is organized around the risk assessment paradigm. The document provides a conceptual model that highlights areas where consideration of metal-specific information is necessary and advantageous when conducting risk assessments. It outlines recommendations for conducting risk assessment for metals and metal compounds based on the unique attributes of these compounds. The guidance document also discusses metal-specific issues related to environmental chemistry, exposure, bioaccumulation and bioavailability, ecological effects, and human health effects. In addition, the guidance discusses research underway, planned, and needed to reduce uncertainty in metals risk assessment.

The Panel will meet with Agency Program representatives by teleconference prior to the face-to-face meeting to discuss charge questions and ask clarifying questions about the Framework for Inorganic Metals Risk Assessment. At the face-to-face meeting, the Panel will conduct a peer review of the Framework for Inorganic Metals Risk Assessment.

Availability of Meeting Materials: A roster of Panel members, their biosketches, the charge to the SAB panel, and the meeting agendas will be posted on the SAB Web site prior to the meetings. EPA's Framework for Metals Risk Assessment may be found at: http://cfpub2.epa.gov/ncea/raf/recordisplay.cfm?deid=88903.

Procedures for Providing Public Comments: It is the policy of the EPA Science Advisory Board (SAB) to accept written public comments of any length, and to accommodate oral public comments whenever possible. The SAB Staff Office expects that public statements presented at SAB Metals Risk Assessment Review Panel meetings will not be repetitive of previously submitted oral or written statements. Oral Comments: In general, each individual or group requesting an oral presentation at a face-to-face meeting will be limited to a total time of ten minutes (unless otherwise indicated). In general, for teleconference meetings, opportunities for oral comment will be limited to no more than three minutes per speaker and no more than fifteen minutes total. Interested parties should contact the DFO in writing (e-mail, fax or mail—see contact information above) by close of business January 19, 2004 in order to be placed on the public speaker list for the teleconference, and by close of business January 24, 2004 in order to be placed on the public speaker list for the face-to face meeting. Speakers should bring at least 35 copies of their comments and presentation slides for distribution to the participants and public at the meeting. Written Comments: Although the SAB Staff Office accepts written comments until the date of the meeting (unless otherwise stated), written comments should be received in the SAB Staff Office at least seven business days prior to the meeting date so that the comments may be made available to the panel for their consideration. Comments should be supplied to the DFO at the address/contact information noted above in the following formats: one hard copy with original signature, and one electronic copy via e-mail (acceptable file format: Adobe Acrobat, WordPerfect, Word, or Rich Text files in IBM-PC/Windows 98/2000/XP format). Those providing written comments and who attend the meeting are also asked to bring 35 copies of their comments for public distribution.

Meeting Accommodations: Individuals requiring special accommodation to access the public meetings listed above should contact the DFO at least five business days prior to the meeting so that appropriate arrangements can be made.

Dated: January 5, 2005.
Vanessa Vu,
Director, EPA Science Advisory Board Staff Office.

[FR Doc. 05-500 Filed 1-10-05; 8:45 am]

BILLING CODE 6560-50-P